DEPARTMENT OF HEALTH AND HUMAN SERVICES

Statement of Organization, Functions and Delegations of Authority

Program Support Center

Part P (Program Support Center) of the Statement of Organization, Functions and Delegations of Authority for the Department of Health and Human Services (HHS), (60 FR 51480, October 2, 1995 as amended most recently at 66 FR 35981 dated July 10, 2001) is amended to reflect changes in Chapter PA within Part P, Program Support Center (PSC), HHS. The PSC is renaming the Office of Marketing to reflect program priorities.

Program Support Center

Under Part P, Section P-20, Functions, change the following:

Under Chapter PA, Office of the Director (PA), delete the title and functional statement for the Office of Marketing (PAC) and substitute the following:

Office of Customer Relations (PAC)

(1) Provides an overall customer relations program for the PSC to advocate, cultivate and evaluate the delivery of products and services on a fee-for-service basis to current and potential customers within and external to HHS; (2) develops resources to support and enhance the communications and promotion of PSC services including presentations, brochures, videos, etc., and detailed technical descriptions of our products and services; (3) develops, directs and evaluates strategic promotional plans to add to the overall customer base and enhance the visibility, credibility and utility of the PSC; (4) designs and conducts customer satisfaction surveys and research projects to determine customer attitudes and determine if PSC services and products are meeting customer requirements and expectations; (5) coordinates and implements HHS policies and procedures regarding the Privacy Act of 1974 and the Paperwork Reduction Act of 1995 for the PSC; (6) coordinates the PSC-wide policy and procedures system utilizing the PSC Intranet; and (7) operates and monitors the PSC Internet and Intranet Web sites.

Dated: September 14, 2001.
Curtis L. Coy,
Director, Program Support Center.

[FR Doc. 01-23697 Filed 9-20-01; 8:45 am]

BILLING CODE 4168-17-M